DEPARTMENT OF THE INTERIOR

National Park Service

National Register of Historic Places;Notification of Pending Nominations

Nominations for the following properties being considered for listing in the National Register were received by the National Park Service before August 19, 2000. Pursuant to section 60.13 of 36 CFR part 60 written comments concerning the significance of these properties under the National Register criteria for evaluation may be forwarded to the National Register, National Park Service, 1849 C St. NW., NC400, Washington, DC 20240. Written comments should be submitted by September 13, 2000.

Beth Boland,
Acting Keeper of the National Register.

Arizona

Mohave County

Pipe Spring National Monument Historic District (Boundary Increase), 401 N. Pipe Spring Rd., Fredonia, 00001072

Connecticut

Fairfield County

Stevenson Dam Hydroelectric Plant, CT 34, Stevenson, 00001073

Iowa

Cedar County

Tipton State Bank, 501 Cedar St., Tipton, 00001075

Clarke County

Kyte, John and Mary Jane, Farmstead District, 2875 Mormon Trail Rd., Weldon, 00001074

Dubuque County

Four Mounds Site, Address Restricted, Dubuque, 00001076

Linn County

Dewitt—Harman Archeological Site, (Early Settlement and Ethnic Properties of Linn County, Iowa MPS) Address Restricted, Cedar Rapids, 00001077

Horecky, Henek and Mary, Log Cabin, (Early Settlement and Ethnic Properties of Linn County, Iowa MPS) Address Restricted, Mt. Vernon, 00001078

Janko, Jan F. and Antonie, Farmstead District, (Early Settlement and Ethnic Properties of Linn County, Iowa MPS) 4021 Vista Rd., Ely, 00001079

Minor, Josias L. and Elizabeth A., Farmstead District, (Early Settlement and Ethnic Properties of Linn County, Iowa MPS) 7500 Ely Rd., Ely, 00001080

Moorhead, Joseph and Clara Amanda H., House, (Early Settlement and Ethnic Properties of Linn County, Iowa MPS) 88 Palisades Access Rd., Ely, 00001081

Podhajsky—Jansa Farmstead District, (Early Settlement and Ethnic Properties of Linn County, Iowa MPS) Hoosier Creek Rd., Ely, 00001082

Kentucky

Lincoln County

Miller, Abraham, House, 3475 KY 300, Stanford, 00001083

Maryland

Baltimore Independent city

Howard Park P.S. 218, 4801 Liberty Heights Ave., Baltimore, 00001084

Baltimore Independent city

Montgomery Ward Warehouse and Retail Store, 1000 S.Monroe St., Baltimore, 00001085

Massachusetts

Berkshire County

East Lawn Cemetery and Sherman Burbank Memorial Chapel, 605 Main St., Williamstown, 00001086

Middlesex County

Reed—Wood Place, 20 Meetinghouse Rd., Littleton, 00001071

Missouri

Franklin County

Abkemeyer, John, House, (Washington, Missouri MPS) 607 Jefferson, Washington, 00001088

Bartelmann, Henry, House, (Washington, Missouri MPS) 110 W. 6th St., Washington, 00001089

Beinke, Henry F., House, (Washington, Missouri MPS) 610 Jefferson St., Washington, 00001090

Beins, Henry, House, (Washington, Missouri MPS) 620 Locust St., Washington, 00001091

Brehe Farmstead Historic District, (Washington, Missouri MPS) 6180 Bluff Rd., Washington, 00001092

Broeker, John H., House, (Washington, Missouri MPS) 605 Locust St., Washington, 00001093

Buhr, Henry J., House, (Washington, Missouri MPS) 309 Lafayette St., Washington, 00001087

Busch, John B., Brewery Historic District, (Washington, Missouri MPS)

108-130A Busch Ave., Washington, 00001094

Degen, Henry, House, (Washington, Missouri MPS) 112 W. 4th St., Washington, 00001095

Eitzen, Henry Charles, Building, (Washington, Missouri MPS) 200 Jefferson St., Washington, 00001096

Ernst, Henry and Elizabeth, House, (Washington, Missouri MPS) 901 Stafford St., Washington, 00001097

Glaser, John, Pottery Factory, (Washington, Missouri MPS) 812 W. Front St., Washington, 00001098

Helm, Charles H., House, (Washington, Missouri MPS) 520 E. 5th St., Washington, 00001099

Helm, John and Wilhelmina, House, (Washington, Missouri MPS) 536 E. 5th St., Washington, 00001100

Jones, Stephen M., Building, (Washington, Missouri MPS)

108-110 Jefferson St., Washington, 00001101

Kohmueller, Louis, House, (Washington, Missouri MPS) 1380 S. Lakeshore Dr., Washington, 00001102

Krog, Albert, House, (Washington, Missouri MPS) 1395 W. Main St., Washington, 00001103

Kruse, Casper, House, (Washington, Missouri MPS) 202 Stafford St., Washington, 00001104

Locust Street Historic District, (Washington, Missouri MPS) Roughly bounded by E. Front, E. 5th, Jefferson, and Hooker Sts., Washington, 00001105

May, Dr. H.A., House, (Washington, Missouri MPS) 402 Jefferson St., Washington, 00001106

Mense, Frank, House, (Washington, Missouri MPS) 304 High St., Washington, 00001107

Meyer, John, House, (Washington, Missouri MPS) 800 E. 6th St., Washington, 00001108

Monje, Paul, House, (Washington, Missouri MPS) 1003 W. 5th St., Washington, 00001109

O'Hara, Mark, House, (Washington, Missouri MPS) 1 South Point Pl., Washington, 00001110

Peters, Louis H., House, (Washington, Missouri MPS) 408 E. 6th St., Washington, 00001111

Raaf, Joseph, House, (Washington, Missouri MPS) 602 Jefferson St., Washington, 00001112

Schnier, Fred, Building, (Washington, Missouri MPS) 10-12 W. 2nd St., Washington, 00001113

Stafford—Olive Historic District, (Washington, Missouri MPS) Roughly bounded by Stafford, Olive, W. 5th, and W. 2nd Sts., Washington, 00001114

Tamm, George, Building, (Washington, Missouri MPS) 121 Jefferson St., Washington, 00001115

Tuepker, Jonathan L., House, (Washington, Missouri MPS) 519 Stafford St., Washington, 00001116

Vitt, William T., House, (Washington, Missouri MPS) 2 River Pilot Dr., Washington, 00001117

Wehrmann, Louis, Building, (Washington, Missouri MPS) 212 Jefferson St., Washington, 00001118

[FR Doc. 00-21967 Filed 8-28-00; 8:45 am]

BILLING CODE 4310-70-P